FEDERAL COMMUNICATIONS COMMISSION

Public Information Collections Approved By Office of Management and Budget

March 16, 2006.

SUMMARY: The Federal Communications Commission (FCC) has received Office of Management and Budget (OMB) approval for the following public information collections pursuant to the Paperwork Reduction Act of 1995, Public Law 104-13. An agency may not conduct or sponsor and a person is not required to respond to a collection of information unless it displays a currently valid control number.

FOR FURTHER INFORMATION CONTACT: Dana Jackson, Federal Communications Commission, 445 12th Street, SW., Washington, DC 20554, (202) 418-2247 or via the Internet at Dana.Jackson@fcc.gov.

SUPPLEMENTARY INFORMATION:

OMB Control No.: 3060-1047.

OMB Approval Date: 02/21/2006.

Expiration Date: 02/28/2009.

Title: In the Matter of Telecommunications Relay Services and Speech-to-Speech Services for Individuals with Hearing and Speech Disabilities, Report and Order, CG Docket No. 03-123, FCC 05-203.

Form No.: None.

Estimated Annual Burden: 677 responses; 2 to 5 hours per response; 2,554 total annually hourly burden.

Needs and Uses: On December 12, 2005, the Commission released a Report and Order and Order on Reconsideration, In the Matter of Telecommunications Relay Services and Speech-to-Speech Services for Individuals with Hearing and Speech Disabilities, FCC 05-203, creating a fourth method for some TRS providers to become certified as eligible to receive compensation from the Interstate Telecommunications Relay Service (TRS) Fund. The Report and Order and Order on Reconsideration amends the TRS regulations to permit common carriers seeking to offer Video Relay Service (VRS) and Internet Protocol (IP) Relay Service to seek certification as an eligible TRS provider, eligible to receive reimbursement from the Interstate TRS Fund directly from the Commission. The information collection requirements include the following: (A) 47 CFR 64.605(a)(2) common carriers seeking to offer VRS and IP Relay service and receive compensation from the Interstate TRS Fund, independent of a certified state program or a common carrier offering TRS, may seek certification from the Commission by providing documentation detailing: (1) A description of the forms of TRS to be provided, (2) a description of how the provider will meet all non-waived mandatory minimum standards applicable to each form of TRS offered, (3) a description of the provider's procedures for ensuring ongoing compliance with all applicable TRS rules, (4) a description of the provider's complaint procedures, (5) a narrative describing any areas in which the provider's service will differ from the applicable mandatory minimum standards, (6) a narrative establishing that services that differ from the mandatory minimum standards do not violate applicable mandatory minimum standards, (7) demonstration of status as common carrier, and (8) a statement that the provider will file annual compliance reports demonstrating continued compliance with the rules; (B) 47 CFR 64.605(c)(2) a VRS or IP Relay provider may apply for renewal of its certification by filing documentation with the Commission, at least 90 days prior to expiration of certification, containing the information described in 47 CFR 64.605(a)(2); (C) 47 CFR 64.605(e)(2) a certified VRS or IP Relay provider must submit documentation demonstrating ongoing compliance with the Commission's minimum standards if, for example, the Commission receives evidence that a certified VRS or IP Relay provider may not be in compliance with the minimum standards and the Commission requests such information; (D) 47 CFR 64.605(f)(2) VRS and IP Relay providers certified under this section must notify the Commission of substantive changes in their TRS programs, services, and features within 60 days of when such changes occur, and must certify that the interstate TRS provider continues to meet federal minimum standards after implementing the substantive change; and (E) 47 CFR 64.605(g) VRS and IP Relay providers certified under this section shall file with the Commission, on an annual basis, a report providing evidence that they are in compliance with § 64.604. The information collection requirements also include those information collection requirements contained in the Telecommunications Relay Services and Speech-to-Speech Services for Individuals with Speech Disabilities, 2003 Report and Order and Notice of Proposed Rulemaking, which were previously approved by OMB on January 27, 2004, and adjustments made to the previous submission pursuant to the new census data.

OMB Control No.: 3060-1053.

OMB Approval Date: 03/07/2006.

Expiration Date: 03/31/2009.

Title: In the Matter of Telecommunications Relay Services and Speech-to-Speech Services for Individuals with Hearing and Speech Disabilities, Two-Line Captioned Telephone Order, CC Docket No. 98-67 and CG Docket No. 03-123, FCC 05-141.

Form No.: None.

Estimated Annual Burden: 6 responses; 8 hours per response; 64 total annually hourly burden.

Needs and Uses: On August 1, 2003, the Commission released the Declaratory Ruling, In the Matter of Telecommunication Relay Services and Speech-to-Speech Services for Individuals with Hearing and Speech Disabilities, CC 98-67, FCC 03-190. In the Declaratory Ruling, the Commission clarified that one-line captioned telephone voice carry over (VCO) service is a type of telecommunications relay service (TRS) and that eligible providers of such services are eligible to recover their costs in accordance with section 225 of the Communications Act. The Commission also clarified that certain TRS mandatory minimum standards does not apply to one-line captioned VCO service, and waived 47 CFR 64.604(a)(1) and (a)(3) of the Commission's rules for all current and future captioned telephone VCO service providers, for the same period of time beginning August 1, 2003. The waivers were contingent on the filing of annual reports, for a period of three years, with the Commission. Sections 64.604(a)(1) and (a)(3) of the Commission's rules, which contained information collection requirements under the PRA became effective on March 26, 2004.

On July 19, 2005, the Commission released a subsequent Order, In the Matter of Telecommunication Relay Services and Speech-to-Speech Services for Individuals with Hearing and Speech Disabilities, CC 98-67 and CG Docket No. 03-123, FCC 05-141, that clarified two-line captioned telephone VCO service, like one-line captioned telephone VCO service, is a type of TRS eligible for compensation from the Interstate TRS Fund. Also, the Commission clarified that certain TRS mandatory minimum standards do not apply to two-line captioned VCO service, and waived 47 CFR 64.604(a)(1) and (a)(3) of the Commission's rules, for providers who offers two-line captioned VCO service. This clarification increased the number of providers who will be providing one-line and two-line captioned VCO services.

Federal Communications Commission.
Marlene H. Dortch,
Secretary.

[FR Doc. E6-4313 Filed 3-23-06; 8:45 am]

BILLING CODE 6712-01-P